POSTAL SERVICE

39 CFR Part 111

Implementation of the Intelligent Mail Package Barcode

AGENCY: Postal Service™.

ACTION: Advance notice of proposed rulemaking.

SUMMARY: The Postal Service is proposing to incorporate standards into Mailing Standards of the United States Postal Service, Domestic Mail Manual (DMM®) for the optional use of Intelligent Mail® package barcodes (IMpb), no later than January of 2011; and expects to require the mandatory use of IMpb on all domestic packages beginning in January 2012.

DATES: Comments must be received on or before September 27, 2010.

ADDRESSES: Mail or deliver written comments to the Manager, Mailing Standards, Postal Service, 475 L'Enfant Plaza, SW., Room 4446, Washington, DC 20260-4446. Copies of all written comments will be available for inspection and photocopying between 9 a.m. and 4 p.m., Monday through Friday, at the Postal Service Headquarters Library, 475 L'Enfant Plaza, SW., 11th Floor North, Washington, DC 20260-0004. Email comments containing the name and address of the commenter, may be sent to: MailingStandards@usps.gov, with a subject line of “Intelligent Mail Package Barcode comments.” Faxed comments are not accepted.

FOR FURTHER INFORMATION CONTACT: Juliaann Hess at 202-268-7663 or Kevin Gunther at 202-268-7208.

SUPPLEMENTARY INFORMATION: This advance notice of proposed rulemaking is intended to provide information and assistance to mailers in planning for future mailings and preparing for system changes necessary to adopt the new IMpb format and electronic files. The subsequent proposed rule to this advance notice, will provide standards for the optional use of IMpb no later than January of 2011, and will propose the mandatory use of IMpb barcodes on all domestic packages in January 2012. The Postal Service looks forward to receiving and considering industry feedback on its proposed timeline prior to publishing final standards.

The term “package” is used to encompass any domestic mailpiece meeting the characteristics in DMM sections 101.3, 401.1, and all Express Mail® and Priority Mail® mailpieces, regardless of their shape, including flat-rate items.

Piece-level package information is needed in the shipping industry to expand product lines, increase competitiveness, provide greater visibility to mailers and the Postal Service, and to create a more comprehensive service performance measurement tool. Today, without the purchase of an extra service such as Delivery Confirmation™, Signature Confirmation™, or insurance, package tracking and delivery information is limited. Barcodes are not currently required on packages; and the barcodes now being used are unable to incorporate the data necessary to meet the needs of the USPS Intelligent Mail strategy. Packages that currently bear barcodes designed to provide delivery and tracking information only do not always include a routing code (a barcode that represents the destination ZIP™ Code). The current barcodes have limited revenue protection capabilities, due to the absence of information associating the piece with its specific payment method; and have limited integration of multiple extra services.

IMpb and Electronic Documentation

The IMpb will provide piece-level data to enable the Postal Service to increase efficiency, add value to its package product line, and enhance its package tracking capabilities. The IMpb is a 34-digit modulated barcode that generally follows the specifications of the GS1-128 symbology. GS1-128 barcodes are a special type of global standard Code 128 barcodes, which make use of Application Identifiers (AI) to define the encoded data and how it is used. The IMpb incorporates features of the GS1-128 symbology to allow for the unique identification and tracking of domestic packages from induction to delivery. The GS1-128 barcode symbology is already a requirement for users of electronic Confirmation Services and the Electronic Verification System® (eVS®). Customers currently participating in these programs will not need to change the symbology of the barcode; however the elements within the barcode and layout will change.

There are several barcode variations for use at the commercial and retail level that will provide the flexibility to accommodate the diverse shipping needs of Postal Service customers. To improve routing, tracking, and service capabilities, the Postal Service is providing advance notice of a future proposal to require customers to include the correct ZIP + 4 Code in the barcode of each package, or to transmit this information to the USPS via an electronic file.

Enhancements to the current requirements for electronic files used, in conjunction with parcel barcodes, will be necessary to support the additional features incorporated into IMpb. Electronic files now used for packages do not provide adequate space for supplemental fields, limiting their ability to support the additional piece-level information received from customers. The new electronic file format will include expanded package identification code fields to accommodate up to a 34-digit barcode string, and will require fewer file types to support any combination of products and services. In addition, customers will be required to include the destination ZIP + 4 Code in the electronic file for all records. This additional ZIP Code information will assist in the routing and tracking of our package products. An optional field for the delivery point code of the destination address has also been added to the electronic file to provide additional information to improve service. A listing of electronic file formats is located in the addendum to Publication 91, Addendum for Intelligent Mail Package Barcode (IMpb) and 3-digit Service Type Code.

The data construction of the IMpb barcode will be different from that of the current Confirmation Services barcode. Detailed specifications for IMpb barcode construction are available in the “Barcode Data” section of the specification document, Barcode, Package, Intelligent Mail (USPS2000508). The most significant change in the barcode data is in the service type code. Currently, barcodes use a 2-digit service type code that can represent multiple mail classes or products, limiting the number of extra services that may be integrated into a single barcode. When two or more extra services are used, a barcode representing each extra service is usually required on the mailpiece, resulting in the need to scan multiple barcodes at delivery.

The IMpb will use unique 3-digit service type codes which identify the exact product and extra service(s) combination, eliminating the need for separate barcodes and separate scanning, enabling more efficient package handling. A list of the 3-digit service type codes is available in the addendum to Publication 91.

To increase package visibility, the Postal Service will scan the IMpb throughout processing using automated mail processing equipment and Intelligent Mail devices. Mailers who include extra services with their packages will have scan data, including acceptance, enroute, and delivery-type data available to them. Mailers will also be able to increase package visibility by associating each package with the appropriate sack, or an approved alternate container, which bears an accurately encoded Intelligent Mail tray label. Each sack or alternate container may then be electronically associated to a pallet (or similar container) that bears an accurately encoded Intelligent Mail container placard.

The Intelligent Mail package barcode will:

• Require a routing code to aid in processing packages on automated sorting equipment.

• Use a channel-specific Application Identifier (AI) that associates the barcode to the payment method, supporting revenue assurance protection.

• Contain a 3-digit service type code, which will identify the exact mail class and service combination, reducing the number of barcodes on a package.

• Permit the use of a 6-digit or 9-digit numeric Mailer ID (MID).

These enhancements will add data-stream efficiency within mail processing, delivery, payment, and reporting. Packages without the addition of extra services must also bear Intelligent Mail package barcodes and will be identified through the use of specific mail class service type codes.

Intelligent Mail barcodes, used on letters and flats, will not be permitted on packages in lieu of the IMpb.

Additional Information

Mailers can access the following references on the RIBBS® Web site at ribbs.usps.gov:

• Proposed addendum to Publication 91, Addendum for Intelligent Mail Package Barcode (IMpb) and 3-digit Service Type Code.

• Specification document, Barcode, Package, Intelligent Mail (USPS2000508).

Stanley F. Mires,
Chief Counsel, Legislative.

[FR Doc. 2010-23313 Filed 9-16-10; 8:45 am]

BILLING CODE 7710-12-P